DEPARTMENT OF HEALTH AND HUMAN SERVICES

Centers for Disease Control and Prevention

Providing Technical Assistance Support for the Rapid Strengthening of Blood Transfusion Services in Selected Countries in Africa and the Caribbean Under the President's Emergency Plan for AIDS Relief

Announcement Type: New, Cooperative Agreement.

Funding Opportunity Number: 04078.

Catalog of Federal Domestic Assistance Number: 93.943.

Key Dates

• Application Deadline: March 1, 2004.

Executive Summary: An important aspect of President Bush's Emergency Plan for AIDS Relief plan is to provide assistance to ensure a safe and adequate blood supply. The focus of this initiative is 14 countries in Africa and the Caribbean that are heavily affected by HIV/AIDS: Botswana, Côte d'Ivoire, Ethiopia, Haiti, Guyana, Kenya, Mozambique, Namibia, Nigeria, Rwanda, South Africa, Tanzania, Uganda, and Zambia. The purpose of this announcement is to provide expert guidance and technical assistance to the Ministries of Health or the National Transfusion Services in the 14 targeted countries as they rapidly develop and implement a national safe blood program with demonstrable results within the first year of the Emergency Plan. An additional intent is to develop sustained indigenous capacity to continue these programs after the project ends.

I. Funding Opportunity Description

Authority: This program is authorized under section 301(a) and 307 of the Public Health Service Act, [42 U.S.C. 241(a) and 242l] as amended and under Public Law 108-25 (United States Leadership Against HIV/AIDS, Tuberculosis and Malaria Act of 2003) [22 U.S.C. 7601].

Purpose: President Bush's Emergency Plan for AIDS Relief has called for immediate action to turn the tide of HIV/AIDS in Africa and the Caribbean, to prevent at least seven million HIV infections within five years. An important aspect of the President's plan is to provide assistance to ensure a safe and adequate blood supply. The focus of this initiative is 14 countries in Africa and the Caribbean heavily affected by HIV/AIDS: Botswana, Côte d'Ivoire, Ethiopia, Haiti, Guyana, Kenya, Mozambique, Namibia, Nigeria, Rwanda, South Africa, Tanzania, Uganda, and Zambia. The World Health Organization (WHO) estimates that five to ten percent of all HIV transmissions are attributable to unsafe blood transfusions. Transmission of HIV and other blood-borne pathogens via blood transfusion is preventable by establishing an adequate supply of safe blood through a systematized blood transfusion service and minimizing unnecessary transfusions. However, according to WHO, among blood donations in Africa in 2002, only 90 percent were screened for HIV, 55 percent for Hepatitis B virus, and only 40 percent for Hepatitis C virus.

The rapid implementation of safe blood programs and precautions against medical transmission of HIV is a priority area for the President's plan. The overall goal is to develop and implement a national safe blood program with demonstrable results within the first year of the Emergency Plan. The purpose of this announcement is to provide support to organizations able to offer expert guidance and technical assistance to Ministries of Health and the National Transfusion Services in the 14 targeted countries on the development and implementation of a national safe blood program.

Measurable outcomes of this program will be in alignment with the following performance goal for President Bush's Emergency Plan for AIDS Relief: Prevent 7 million new HIV infections. The initiative will involve large-scale prevention efforts, including the rapid establishment and strengthening of safe blood transfusion services.

This initiative is a coordinated effort led by the Office of the Global AIDS Coordinator at the Department of State and involves various U.S. Federal Government agencies, including, the Department of State, the Department of Health and Human Services (HHS), the Department of Defense, and the U.S. Agency for International Development.

Activities

Awardee activities for this program are as follows: The provision of expert guidance and technical assistance to Ministries of Health or the Government's National Transfusion Services in the 14 targeted countries: Botswana, Côte d'Ivoire, Ethiopia, Haiti, Guyana, Kenya, Mozambique, Namibia, Nigeria, Rwanda, South Africa, Tanzania, Uganda, and Zambia. Awardees must carry out activities with Ministries of Health or the National Transfusion Services in multiple countries. Ministries of Health or the National Transfusion Services will be responsible for the actual implementation of the blood safety programs, including management, operations, and monitoring.

Specifically, the awardee(s) will provide expert guidance and technical assistance in the following areas:

• Infrastructure—Assist in assessing current infrastructure needs for a national, regionalized blood transfusion system, including regional blood collection and processing facilities, laboratory testing equipment and supplies. Advise in the strengthening of regional blood collection facilities in major urban areas, preferably near major health care facilities. Advise in the provision of standard laboratory equipment and reagents to regional blood collection facilities to test blood for transfusion-transmitted infections and to perform blood grouping and cross matching.

• Blood collection—Develop generic and site-specific protocols for obtaining, handling and storing, transporting, and distributing blood for use in blood collection facilities. Assist in developing and maintaining a network of blood donor recruiters and blood donor counselors to operate from each regional center. Assist in developing and maintainaing a system to identify a network of low risk and repeat blood donors. Guide in the management of blood collection facilities that have the capacity to obtain, handle and store blood safely with good recordkeeping. Implement effective quality assurance procedures for collecting and storing blood.

• Testing—Develop generic national and site-specific protocols for testing blood for HIV, hepatitis and syphilis. Manage blood testing facilities, ensuring good recordkeeping. Implement effective quality assurance procedures for testing blood.

• Transfusion and Blood Utilization—Develop and implement national guidelines for the appropriate use of blood and blood products, nationally and regionally. Develop blood utilization review and quality assurance systems for blood usage.

• Training—Develop and provide training programs and continuing education programs for health care professionals involved with blood transfusion services, such as physicians, nurses, physician assistants, community health aides, counselors, and laboratory technicians in the fields of blood donor recruitment and blood collection. Develop and provide training programs and continuing education programs for physicians and laboratory technicians in basic principles and practice of blood banking and transfusion medicine. Develop educational programs for health care providers, nurses and the general public on safe transfusion practices, including reducing the demand for unnecessary transfusions and recognizing community norms in practices regarding blood transfusions.

• Monitoring and Evaluation—Implement a system for reviewing and adjusting program activities based on monitoring information. Measure clinical outcomes to assess the impact of the program.

Funding will be provided to initiate new programs or expand existing programs (e.g., expanding from one region to other regions of the same country) that include the above compounds.

In a cooperative agreement, HHS/CDC staff is substantially involved in the program activities, above and beyond routine grant monitoring. HHS will work under the guidance and supervision of the Office of the Global AIDS Coordinator at the Department of State.

HHS/CDC Activities for this program are as follows:

• Provide scientific and technical assistance in refining the operational plan.

• Provide ongoing technical assistance in addressing problems encountered in implementing your plan.

• Assist in assessing program operations and in evaluating overall effectiveness of your program.

• Staff in both headquarters (HHS/CDC Atlanta and HHS/CDC in country) and in the designated countries will assure that other related U.S. Government (USG) activities are well coordinated with National Programs in each country.

II. Award Information

Type of Award: Cooperative Agreement. HHS/CDC involvement in this program is listed in the Activities Section above.

Fiscal Year Funds: FY 2004.

Approximate Total Funding: $10 million.

Approximate Number of Awards: 3.

Approximate Average Award: $5 million.

Floor of Award Range: $500 thousand.

Ceiling of Award Range: $10 million.

Anticipated Award Date: March 25, 2004.

Budget Period Length: 12 months.

Project Period Length: 5 years.

Throughout the project period, HHS/CDC's commitment to continuation of awards will be conditioned on the availability of funds, evidence of satisfactory progress by the recipient (as documented in required and certified technically acceptable semi-annual program and financial reports), and the determination that continued funding is in the best interest of the U.S. Government.

III. Eligibility Information

III.1. Eligible applicants: Applications may be submitted by foreign and domestic public and private organizations, such as:

• Public nonprofit organizations.

• Private nonprofit organizations.

• Universities.

• Faith-based organizations.

III.2. Cost Sharing or Matching: Matching funds are not required for this program.

III.3. Other Eligibility Requirements: If your application is incomplete or non-responsive to the requirements listed below, it will not be entered into the review process. You will be notified that your application did not meet the submission requirements

Provide written evidence, including letters of recommendation from entities you have worked with in the past, that your organization has experience providing services in all of the following areas for at least five years:

• Managing, operating or organizing national or regional blood centers, blood banks, blood bank testing laboratories, or blood banking professional organizations.

• Developing or operating national, regional or university educational and training programs in blood banking and blood transfusion practice for blood bank professionals.

• Developing or implementing guidelines or standards, including quality assurance, for blood collection centers, blood bank testing laboratories or transfusion services.

• Developing or operating blood donor recruitment networks and training blood donor recruitment staff, or developing standards or guidelines for these activities.

If you request a funding amount greater than the upper threshold, your application will not be eligible for review. You will be notified that you did not meet the submission requirements.

Note: Title 2 of the United States Code section 1611 states that an organization described in section 501(c)(4) of the Internal Revenue Code that engages in lobbying activities is not eligible to receive Federal funds constituting an award, grant, or loan.

IV. Application and Submission Information

IV.1. Address to Request Application Package: To apply for this funding opportunity use application form PHS 5161. Forms are available on the USG Web site, at the following Internet address: http://www.cdc.gov/od/pgo/forminfo.htm.

If you do not have access to the Internet, or if you have difficulty accessing the forms on-line, you may contact the USG Procurement and Grants Office Technical Information Management Section (PGO-TIM) staff at: 770-488-2700. Application forms can be mailed to you.

IV.2. Content and Form of Application Submission: This program announcement is the definitive guide on application format, content, and deadlines. It supersedes information provided in the application instructions. If there are discrepancies between the application form instructions and the program announcement, adhere to the guidance in the program announcement.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711. For more information, see the USG Web site at: http://www.cdc.gov/od/pgo/funding/pubcommt.htm.

If your application form does not have a DUNS number field, please write your DUNS number at the top of the first page of your application, and/or include your DUNS number in your application cover letter.

You must submit a signed original and two copies of your application forms.

You must include a project narrative with your application forms. Your narrative must be submitted in the following format:

• Maximum number of pages: 30 (Note: eligibility and budget narrative are not included in the page total). If your narrative exceeds the page limit, only the first pages which are within the page limit will be reviewed.

• Font size: 12 point unreduced

• Paper size: 8.5 by 11 inches

• Page margin size: 1″—top, bottom, right, and left

• Printed only on one side of page

• Held together only by rubber bands or metal clips; not bound in any other way.

• Written in English, avoid jargon.

Your narrative should address activities to be conducted over the entire project period, and must include the following items in the order listed:

A. Need (3 Pages Maximum)

Describe the need for services in the country or regions in which you intend to provide blood transfusion safety services. Address the following:

1. Need for technical assistance and guidance in the designated countries for all activities.

2. Need for blood safety education and training activities for physicians, nurses, laboratory technologists, managers, and donor recruiters.

B. Current Blood Bank and Transfusion Service Activities (9 Pages Maximum)

Describe the blood transfusion system activities for the regions in which you plan to provide blood transfusion safety services. Address the following:

1. Infrastructure—Describe your organization's ability to work with and advise the Ministries of Health and/or National Blood Transfusion Services in the designated countries with guidance on the design and organization of regional blood collection centers, laboratory testing equipment, and standard operating procedures.

2. Blood Collection—Describe your ability to guide the development of protocols and standards for collecting, handling and distributing units of blood. Describe your organization's scope of work in blood donor recruitment and counseling activities. Describe your organization's work in the management of blood collection facilities, record-keeping, and quality assurance activities. Describe your organization's activities in blood donor recruitment, selection and counseling.

3. Testing—Describe your organization's role in blood transfusion safety laboratory testing and in promoting standard operating procedures and quality assurance systems for blood transfusion services and testing laboratories.

4. Transfusion and Blood Utilization—Describe your organization's role in the development of or use of guidelines or standards for blood transfusion therapy and efforts or systems for blood utilization review and the reduction of unnecessary blood transfusions.

5. Training Activities—Describe current training programs for blood transfusion safety for physicians, laboratory technologists, donor recruiters, and nurses. Include information about course titles, types and numbers of persons trained, length of each course, training facilities, and the trainers.

6. Monitoring and Evaluation—Describe your organization's use of program indicators and monitoring and evaluation tools in measuring quality of blood transfusion services such as the monthly number of units of safe blood made available, the number of persons receiving safe blood each month, the blood supply deficit, and the number of persons with serious adverse consequences to transfusions.

7. Describe your organization's experience with providing technical assistance related to the areas listed above. Comment on any experience providing technical assistance in other countries.

C. Goals (4 Pages Maximum)

Address the following:

1. Provide goals, objectives, and timeline for implementation of the program plan.

2. Provide measures of effectiveness by which you can assess the success of the program.

3. Provide letters of support from organizations with which you intend to work. These letters should indicate support for the goals and objectives of your proposed project and indicate what support they will provide, e.g., referrals to your program.

D. Rapid Expansion of Blood Transfusion Safety Services (8 Pages Maximum)

Describe your plans for increasing the quality and extent of safe blood transfusion services. Describe your plans for increasing the number of units of safe blood available for transfusion and plans for reducing unnecessary transfusions. Address the following areas:

1. Infrastructure—Indicate for which countries you intend to provide assistance. Describe your plans to assist the designated countries in assessing and expanding the current blood transfusion system infrastructure, including regional blood collection facilities, laboratory testing equipment, and supplies.

2. Blood Collection—Describe your plans for assisting countries in expanding the current systems for collecting, handling, and distributing units of blood. Describe your plans for the expansion of blood donor recruitment and counseling activities. Describe your plans for assisting the designated countries with the development of blood collection facilities management, record-keeping, and quality assurance activities. Describe your planned activities to assist with the promotion of blood donor community mobilization in the proposed areas.

3. Testing—Describe your plans to advise and guide the designated countries in expanding their current systems of testing blood for HIV, hepatitis, and syphilis. Describe plans to help implement or expand current standard operating procedures and quality assurance procedures.

4. Transfusion and Blood Utilization—Describe plans to help the designated countries implement the use of national or regional guidelines for blood transfusion therapy and efforts or systems for blood utilization review and the reduction of unnecessary blood transfusions.

5. Training Activities—Describe proposed training programs for blood transfusion safety for physicians, laboratory technologists, donor recruiters and nurses. Include information about proposed fellowships, training courses, types and numbers of persons to be trained, and length of each course. Describe the number of potential faculty and trainers and their qualifications and experience.

6. Monitoring and Evaluation—Describe the proposed system to use important program indicators such as the monthly number of units of safe blood made available, the number of persons receiving safe blood each month, the blood supply deficit, and the number of persons with serious adverse consequences to transfusions.

7. Sustainability—Applicants should develop a one-page description of capacity building activities for each year's work plan. Proposed activities must include capacity building as defined as activities promoting host country infrastructure development and strengthening of management, service delivery, and evaluation systems and clinical/cultural competency.

In order to accomplish sustainable systems development the following activities are suggested:

• Identify key stakeholders and engage potential in-country partners;

• Develop or expand a formal (preferably host country) advisory group to plan for on-going services;

• Define the components of care with other health or social service providers;

• Research funding sources; and

• Develop an exit plan.

The overall strategy and program must fit into National host country strategies including continuation of the program funding and staffing.

E. Management Plan, Staffing, and Infrastructure (6 Pages Maximum)

Address the following:

1. Management Plan—Provide an organizational chart and describe the responsibilities for each of the key staff.

2. Staffing—Describe the number and types of staff needed to assist with technical guidance and training activities.

3. Infrastructure—Describe the physical facilities in which the proposed activities will be carried out and the equipment needed.

4. Human Resources, Management and Administration—Describe plans to provide or obtain all material and human resources necessary for the development, implementation, management, operation, monitoring, and quality assurance of all technical assistance program activities.

5. Coordination with National Programs—Describe the organization's strategy to coordinate proposed activities within the context of national programs.

F. Budget Narrative (No Page Limit)

Guidance for completing your budget can be found on the USG Web site, at the following address: http://www.cdc.gov/od/pgo/funding/budgetguide.htm.

Additional information may be included in the application appendices. The appendices will not be counted toward the narrative page limit. This additional information includes: Curriculum Vitae, Resumes, Organizational Charts, Letters of Support, and other pertinent documents.

IV.3. Submission Dates and Times: Application Deadline Date: March 1, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on application format, content, and deadlines. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications: Executive Order 12372 does not apply to this program.

IV.5. Funding restrictions: Funding restrictions, which must be taken into account while writing your budget are as follows:

• Funds may be used only for activities associated with strengthening blood transfusion services. USG funds may be used for direct costs such as salaries; necessary travel; operating costs, including supplies, fuel, utilities, etc.; staff training costs, including registration fees and purchase and rental of training related equipment; and purchase of HIV testing reagents, test kits, and laboratory equipment for HIV testing.

• No funds appropriated under this solicitation shall be used to carry out any program of distributing sterile needles or syringes for the hypodermic use of any illegal drug.

• No funds made available under this solicitation may be used to provide assistance to any group or organization that does not have a policy explicitly opposing prostitution and sex trafficking. This written statement of certification must be signed by authorized person(s) within the applicant group or organization, including the individuals submitting the application. No funds made available under this solicitation may be used to promote or advocated the legalization or practice of prostitution or sex trafficking. Nothing in the preceding two sentences shall be construed to preclude the provision to individuals of palliative care, treatment, or post-exposure pharmaceutical prophylaxis, and necessary pharmaceuticals and other commodities, including test kits, condoms, and, when proven effective, microbicides.

• Applicants may contract with other organizations under this program; however, the applicant must perform a substantial portion of the activities (including program management and operations, and delivery of services for which funds are requested).

• The costs that are generally allowable in grants to domestic organizations are allowable to foreign institutions and international organizations, with the following exception: With the exception of American University, Beirut and the World Health Organization, indirect costs will not be paid (either directly or through a sub-award) to organizations located outside the territorial limits of the United States or to international organizations regardless of their location.

• All requests for funds contained in the budget shall be stated in U.S. dollars. Once an award is made, USG will not compensate foreign grantees for currency exchange fluctuations through the issuance of supplemental awards.

• A fiscal Recipient Capability assessment may be required, prior to or post award, in order to review the applicant's business management and fiscal capabilities regarding the handling of U.S. Federal funds.

• You must obtain an annual audit of these USG funds (program-specific audit) by a U.S.-based audit firm with international branches and current licensure/authority in-country, and in accordance with International Accounting Standards or equivalent standard(s) approved in writing by USG.

IV. 6. Other Submission Requirements: Application Submission Address: Submit your application by mail or express delivery service to: Technical Information Management—PA#04078, CDC Procurement and Grants Office, 2920 Brandywine Road, Atlanta, GA 30341, USA.

Applications may not be submitted electronically at this time.

V. Application Review Information

V.1. Criteria: You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation. These should be included in your project narrative under “Goals.”

Your application will be evaluated against the following criteria:

1. Current Capability: 45 Points

(a) Infrastructure—Does the applicant have the resources to guide or assist in the development of blood center infrastructure, including buildings, equipment, and supplies?

(b) Blood collection—Does the applicant have the resources to guide or assist in the development of blood collection facilities, including the development of blood donor recruitment networks?

(c) Testing—Does the applicant have the resources to guide or assist in the development of blood transfusion testing laboratories, including standard operating procedures and protocols?

(d) Transfusion and Blood Utilization—Does the applicant have the resources to develop or assist in the development of blood transfusion practice guidelines and a blood utilization review programs?

(e) Training—Does the applicant have the resources to develop or guide in the development of a comprehensive training program in the basic principles and practices of blood banking and transfusion medicine?

(f) Monitoring and evaluation—Does the applicant have a monitoring and evaluation plan? Does the plan measure important indicators?

2. Feasibility of Plan: 35 Points

(a) Infrastructure—Is the plan to guide or assist in the development of blood center infrastructure sound and reasonable?

(b) Blood collection—Is the plan to guide or assist in the development of blood collection facilities, including the development of blood donor recruitment networks, reasonable?

(c) Testing—Is the plan to guide or assist in the development of blood transfusion testing laboratories, including standard operating procedures and protocols, reasonable?

(d) Transfusion and Blood Utilization—Does the applicant's plan to develop or assist in the development of blood transfusion practice guidelines and a blood utilization review programs seem reasonable?

(e) Training—Does the applicant have the resources and a reasonable plan to develop, or guide the development of, a comprehensive training program in the basic principles and practices of blood banking and transfusion medicine?

(f) Monitoring and evaluation—Is the monitoring and evaluation plan feasible? Does the plan measure important indicators?

(g) Sustainability—Is the plan for sustainability reasonable and feasible?

3. Measures of Effectiveness: 10 Points

Do the measures of effectiveness address the number of blood units tested safe for transfusion-transmitted diseases and the number of persons receiving safe transfusions?

4. Plans for Collaboration: 10 Points

Is there a plan or strategy for effectively collaborating with the Ministries of Health or National Transfusion Services funded under CDC Program Announcement 04077?

V.2. Review and Selection Process: Applications will be reviewed for completeness by the Procurement and Grants Office (PGO) staff, and for responsiveness by the National Center for HIV, STD, and TB Prevention. Incomplete applications and applications that are non-responsive to the eligibility criteria will not advance through the review process. Applicants will be notified that their application did not meet submission requirements.

An interagency objective review panel will evaluate your application according to the criteria listed in section “V.1. Criteria” above.

In addition, the following factors may affect the funding decision:

• Geographic distribution.

• Percentage of staff who are citizens of the country in which services will be provided.

V.3. Anticipated Announcement and Award Dates: Award Date: March 25, 2004.

VI. Award Administration Information

Award Notices: Successful applicants will receive a Notice of Grant Award (NGA) from the USG Procurement and Grants Office. The NGA shall be the only binding, authorizing document between the recipient and USG. The NGA will be signed by an authorized Grants Management Officer, and mailed to the recipient fiscal officer identified in the application.

Administrative and National Policy Requirements: 45 CFR part 74 and part 92.

For more information on the Code of Federal Regulations, see the National Archives and Records Administration at the following Internet address: http://www.access.gpo.gov/nara/cfr/cfr-table-search.html.

The following additional requirements apply to this project:

• AR-4 HIV/AIDS Confidentiality Provisions

• AR-5 HIV Program Review Panel Requirements

• AR-6 Patient Care

• AR-9 Paperwork Reduction Act Requirements

• AR-10 Smoke-Free Workplace Requirements

• AR-11 Healthy People 2010

• AR-12 Lobbying Restrictions

• AR-14 Accounting System Requirements

• AR-16 Security Clearance Requirement

• AR-23 States and Faith-Based Organizations

• AR-24 Health Insurance Portability and Accountability Act Requirements

• AR-25 Release and Sharing of Data

Additional information on these requirements can be found on the CDC Web site at the following Internet address: http://www.cdc.gov/od/pgo/funding/ARs.htm.

Reporting Requirements

You must provide CDC with a hardcopy original, plus two copies of the following reports:

1. Interim progress report, no less than 90 days before the end of the budget period. The progress report will serve as your non-competing continuation application, and must contain the following elements:

(a) Current Budget Period Activities Objectives.

(b) Current Budget Period Financial Progress.

(c) New Budget Period Program Proposed Activity Objectives.

(d) Detailed Line-Item Budget and Justification.

(e) Additional Requested Information.

2. Semi-annual progress report, due 7 months after the beginning of each budget period. This report should contain the following elements:

(a) Progress on achieving objectives

(b) Modification or new activities

3. Financial status report, no more than 90 days after the end of the budget period.

4. Final financial and performance reports, no more than 90 days after the end of the project period.

These reports must be mailed to the Grants Management Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Kenneth Clark, M.D., MPH, Project Officer, National Center for HIV, STD, and TN Prevention, Centers for Disease Control and Prevention, 1600 Clifton Rd, NE, MS E04, Atlanta, GA 30333, Telephone: 404-639-8057, E-mail: kjc4@cdc.gov.

For budget assistance, contact: Shirley Wynn, Contract Specialist, CDC Procurement and Grants Office, 2920 Brandywine Road, Atlanta, GA 30341, Telephone: 770-488-1515, E-mail: zbx6@cdc.gov.

Dated: November 25, 2003.
Edward Schultz,
Acting Director, Procurement and Grants Office, Centers for Disease Control and Prevention.

[FR Doc. 03-29892 Filed 11-28-03; 8:45 am]

BILLING CODE 4163-18-P